DEPARTMENT OF LABOR

Employment and Training Administration

[TA-W-52,777]

Steelcase, Inc., Grand Rapids, Michigan; Notice of Revised Determination on Reconsideration Regarding Eligibility To Apply for Worker Adjustment Assistance and Alternative Trade Adjustment Assistance

By electronic mail dated October 22, 2003, the State of Michigan requested administrative reconsideration regarding Alternative Trade Adjustment Assistance (ATAA). The request was made because the Department certified the workers of the subject firm regarding only eligibility to apply for worker adjustment assistance. The certification was signed on November 5, 2003. The notice will soon be published in the Federal Register.

The Department issued the limited certification because it did not investigate if workers met the eligibility requirement of Alternative Trade Adjustment Assistance (ATAA), since a copy of the request for determination of eligibility to apply for the ATAA program for Older Workers was not attached to the petition.

Because the State provided documentation that a request for ATAA consideration was properly submitted, an investigation was conducted to determine if workers are eligible to apply for ATAA. The investigation revealed that a significant number of workers at the firm are age 50 or over and possess skills that are not easily transferable and that competitive conditions within the industry are adverse.

Conclusion

After careful review of the additional facts obtained on reconsideration, I conclude that there was a shift of production from the workers' firm or subdivision to Mexico of articles like or directly competitive with those produced by the subject firm. In accordance with the provisions of the Act, I make the following certification:

All workers of Steelcase, Inc., Grand Rapids, Michigan, who became totally or partially separated from employment on or after August 12, 2002, through two years from the date of this certification, are eligible to apply for adjustment assistance under section 223 of the Trade Act of 1974, and are also eligible to apply for alternative trade adjustment assistance under section 246 of the Trade Act of 1974.

Signed in Washington, DC, this 11th day of December, 2003.
Elliott S. Kushner,
Certifying Officer, Division of Trade Adjustment Assistance.

[FR Doc. 04-305 Filed 1-6-04; 8:45 am]

BILLING CODE 4510-30-P